DEPARTMENT OF HOMELAND SECURITY

Coast Guard

33 CFR Part 110

[Docket No. USCG-2010-0929]

RIN 1625-AA01

Anchorage Regulations: Subpart A—Special Anchorage Regulations, Newport Bay Harbor, CA

AGENCY: Coast Guard, DHS.

ACTION: Notice of proposed rulemaking.

SUMMARY: The Coast Guard proposes to expand the boundaries of the special anchorage areas in Newport Bay Harbor, California, to encompass and replace temporary anchorage grounds C-1 and C-2, and anchorage ground C-3. This proposal would realign anchorage boundaries in order to reflect the way the harbor currently is used. This proposed rule also would update the description of the existing special anchorage areas to use geographic coordinates.

DATES: Comments and related material must be received by the Coast Guard on or before March 15, 2012.

ADDRESSES: You may submit comments identified by docket number USCG-2010-0929 using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. See the “Public Participation and Request for Comments” portion of the SUPPLEMENTARY INFORMATION section below for instructions on submitting comments.

FOR FURTHER INFORMATION CONTACT: If you have questions on this proposed rule, call or email ENS Matt Sanders, U.S. Coast Guard Sector Los Angeles—Long Beach, Assistant Waterways Chief, telephone (310) 521-3860, email Stephen.M.Sanders@uscg.mil. If you have questions on viewing or submitting material to the docket, call Renee V. Wright, Program Manager, Docket Operations, telephone (202) 366-9826.

SUPPLEMENTARY INFORMATION:

Public Participation and Request for Comments

We encourage you to participate in this rulemaking by submitting comments and related materials. All comments received will be posted without change to http://www.regulations.gov and will include any personal information you have provided.

Submitting Comments

If you submit a comment, please include the docket number for this rulemaking (USCG-2010-0929), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, click on the “submit a comment” box, which will then become highlighted in blue. In the “Document Type” drop down menu select “Proposed Rule” and insert “USCG-2010-0929” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2010-0929” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But, you may submit a request using one of the four methods specified under ADDRESSES. Please explain why you believe a public meeting would be beneficial. If we determine that one would aid this rulemaking, we will hold one at a time and place announced by a later notice in the Federal Register.

Basis and Purpose

The legal basis for the proposed rule is 33 U.S.C. 471, 1221 through 1236, 2030, 2035, and 2071; 33 CFR 1.05-1; and Department of Homeland Security Delegation No. 0170.1, which collectively authorize the Coast Guard to define anchorage grounds.

This proposed rule would expand the designated special anchorage areas in Newport Bay Harbor, and remove other anchorage grounds, to align with the actual placement of existing mooring areas and reflect the way the harbor is currently used.

Discussion of Proposed Rule

Due to enhanced anchorage population over the years, the mooring areas being used in Newport Bay Harbor are nominally larger than the special anchorage areas originally charted in 33 CFR 110.95. As moorings were added or overhauled, the new moorings would fall outside the existing boundaries, resulting in moorings lying outside the charted areas. Similarly, the anchorage grounds designated in 33 CFR 110.212 were originally used as temporary overflow anchorages, but are now used regularly. Harbor users have been accustomed to this placement for the last 10 years.

The Mooring Master Plan Subcommittee of the City of Newport Harbor Commission led an outreach campaign involving a series of public meetings about aligning the anchorage regulations with actual harbor use patterns, and we understand that the subcommittee did not receive any opposition from the waterway users. After these public meetings, the City of Newport asked the Coast Guard to amend its anchorage regulations.

The Coast Guard proposes to realign the boundaries in order to reflect the way the harbor currently is used. The proposed rule would remove § 110.212 and the three anchorage grounds found therein (anchorages C-1, C-2, C-3). The area covered by those anchorages would be incorporated into the special anchorage area regulations at § 110.95. Anchorage C-1 would be incorporated into area B-1 under revised § 110.95(m), and anchorages C-2 and C-3 would be incorporated into area A-11 under revised § 110.95(k). An image of the proposed anchorage areas is available in the docket.

The enlargement of the special anchorage areas does not pose any waterway or navigational hazard, or restrict harbor use in any way. The Army Corps of Engineers has been consulted and did not have any opposition. We anticipate that this proposed rule would have no impact on fishing or boating because the proposed amendment would adjust the lines to fit the current layout of moorings in Newport Harbor. Small craft are not restricted in the harbor.

Berthing and anchoring in Newport Harbor also is regulated by Orange County ordinance and the City of Newport's municipal code. The enlargement of the special anchorages does not impact these laws; for the convenience of the reader we have included a note in the proposed rule referencing local municipal codes. This note consolidates the multiple notes currently in the section. Finally, this proposed rule would update the other provisions of § 110.95 to designate anchorage areas using geographic coordinates rather than channel lights and other points in the harbor.

Regulatory Analyses

We developed this proposed rule after considering numerous statutes and executive orders related to rulemaking. Below we summarize our analyses based on 13 of these statutes or executive orders.

Regulatory Planning and Review

This proposed rule is not a significant regulatory action under section 3(f) of Executive Order 12866, Regulatory Planning and Review, as supplemented by Executive Order 13563, and does not require an assessment of potential costs and benefits under section 6(a)(3) of that Order. The Office of Management and Budget has not reviewed it under that Order. The Coast Guard proposes to realign anchorage boundaries in order to reflect the way the harbor currently is used. The enlargement of the anchorages does not restrict harbor use in any way.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following entities, some of which might be small entities: The owners or operators of commercial and recreational vessels intending to transit or anchor in the affected area. The impact to these entities will not, however, be significant since this area will encompass only a small portion of the waterway and vessels can safely navigate around the anchored vessels.

If you think that your business, organization, or governmental jurisdiction qualifies as a small entity and that this rule would have a significant economic impact on it, please submit a comment (see ADDRESSES) explaining why you think it qualifies and how and to what degree this rule would economically affect it.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such expenditure, we do discuss the effects of this rule elsewhere in this preamble.

Taking of Private Property

This proposed rule would not cause a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. This proposed rule involves changing the size of special anchorage areas. We seek any comments or information that may lead to the discovery of a significant environmental impact from this proposed rule.

List of Subjects in 33 CFR Part 110

Anchorage grounds.

For the reasons discussed in the preamble, the Coast Guard proposes to amend 33 CFR part 110 as follows:

PART 110—ANCHORAGE REGULATIONS

1. The authority citation for part 110 continues to read as follows:

Authority: 33 U.S.C. 471, 1221 through 1236, 2030, 2035, 2071; 33 CFR 1.05-1(g); Department of Homeland Security Delegation No. 0170.1.

2. Revise § 110.95 to read as follows:

§ 110.95 Newport Bay Harbor, Calif.

(a) Area A-1. The entire water area within beginning at latitude 33°36′09.3″ N., longitude 117°53′52.6″ W.; thence to latitude 33°36′11.4″ N., longitude 117°53′51.2″ W.; thence to latitude 33°36′04.0″ N., longitude 117°53′33.4″ W.; thence to latitude 33°36′03.9″ N., longitude 117°53′20.4″ W.; thence to 33°36′01.1″ N., longitude 117°53′09.9″ W.; thence to 33°36′01.1″ N., longitude 117°53′32.7″ W.; thence to 33°36′03.9 N., longitude 117°53′41.9″ W.; returning to latitude 33°36′09.3″ N., longitude 117°53′52.6″ W.

(b) Area A-2. The entire water area within beginning at latitude 33°36′12.9″ N., longitude 117°53′44.2″ W.; thence to latitude 33°36′14.2″ N., longitude 117°53′44.3″ W.; thence to latitude 33°36′14.2″ N., longitude 117°53′20.6″ W.; thence to latitude 33°36′10.8″ N., longitude 117°53′20.5 W.; thence to latitude 33°36′12.7″ N., longitude 117°53′29.9″ W.; thence to latitude 33°36′12.7″ N., longitude 117°53′35.4″ W.; thence to latitude 33°36′12.9″ N., longitude 117°53′37.0″ W.; returning to latitude 33°36′12.9″ N., longitude 117°53′44.2″ W.

(c) Area A-3. The entire water area within beginning at latitude 33°36′22.7″ N., longitude 117°54′12.6″ W.; thence to latitude 33°36′24.9″ N., longitude 117°54′12.6″ W.; thence to latitude 33°36′26.2″ N., longitude 117°54′11.3″ W.; thence to latitude 33°36′18.7″ N., longitude 117°54′00.5″ W.; thence to latitude 33°36′16.2″ N., longitude 117°54′02.9″ W.; returning to latitude 33°36′22.7″ N., longitude 117°54′12.6″ W.

(d) Area A-4. The entire water area within beginning at latitude 33°36′32.7″ N., longitude 117°53′56.6″ W.; thence to latitude 33°36′33.6″ N., longitude 117°53′56.6″ W.; thence to latitude 33°36′33.5″ N., longitude 117°53′26.2″ W.; thence to latitude 33°36′32.9″ N., longitude 117°53′26.2 W.; thence to latitude 33°36′32.6″ N., longitude 117°53′33.8″ W.; thence to latitude 33°36′32.4″ N., longitude 117°53′36.7″ W.; thence to latitude 33°36′31.7″ N., longitude 117°53′40.9″ W.; thence to 33°36′31.7″ N., longitude 117°53′46.3″ W.; thence to latitude 33°36′32.6″ N., longitude 117°53′50.9″ W.; returning to latitude 33°36′32.7″ N., longitude 117°53′56.6″ W.

(e) Area A-5. The entire water area within beginning at latitude 33°36′29.1″ N., longitude 117°54′55.3″ W.; thence to latitude 33°36′27.8″ N., longitude 117°54′55.8″ W.; thence to latitude 33°36′24.1″ N., longitude 117°54′41.8″ W.; thence to latitude 33°36′26.7″ N., longitude 117°54′40.8″ W.; thence to latitude 33°36′26.7″ N., longitude 117°54′46.3″ W.; returning to latitude 33°36′29.1″ N., longitude 117°54′55.3″ W.

(f) Area A-6. The entire water area within beginning at latitude 33°36′43.3″ N., longitude 117°54′26.4″ W.; thence to latitude 33°36′51.7″ N., longitude 117°54′22.8″ W.; thence to latitude 33°36′51.4″ N., longitude 117°54′21.5″ W.; thence to latitude 33°36′42.9″ N., longitude 117°54′25.2″ W.; returning to latitude 33°36′43.3″ N., longitude 117°54′26.4″ W.

(g) Area A-7. The entire water area within beginning at latitude 33°36′32.1″ N., longitude 117°55′12.5″ W.; thence to latitude 33°36′37.7″ N., longitude 117°55′11.0″ W.; thence to latitude 33°36′35.1″ N., longitude 117°55′01.3″ W.; thence to latitude 33°36′30.4″ N., longitude 117°55′02.6″ W.; thence to latitude 33°36′31.2″ N., longitude 117°55′06.7″ W.; returning to latitude 33°36′32.1″ N., longitude 117°55′12.5″ W.

(h) Area A-8. The entire water area within beginning at latitude 33°36′34.2″ N.; longitude 117°55′27.3″ W.; thence to latitude 33°36′36.2″ N., longitude 117°55′26.7″ W.; thence to latitude 33°36′39.5″ N., longitude 117°55′20.9″ W.; thence to latitude 33°36′38.9″ N., longitude 117°55′15.4″ W.; thence to latitude 33°36′37.9″ N., longitude 117°55′11.7″ W.; thence to latitude 33°36′32.1″ N., longitude 117°55′13.3″ W.; returning to latitude 33°36′34.2″ N.; longitude 117°55′27.3″ W.

(i) Area A-9. The entire water area within beginning at latitude 33°36′53.5″ N., longitude 117°55′28.2″ W.; thence to latitude 33°36′54.0″ N., longitude 117°55′27.0″ W.; thence to latitude 33°36′43.4″ N., longitude 117°55′20.4″ W.; thence to latitude 33°36′42.9″ N., longitude 117°55′21.6″ W.; returning to latitude 33°36′53.5″ N., longitude 117°55′28.2″ W.

(j) Area A-10. The entire water area within beginning at latitude 33°36′07.4″ N., longitude 117°53′19.2″ W.; thence to latitude 33°36′14.2″ N., longitude 117°53′19.4″ W.; thence to latitude 33°36′14.2″ N., longitude 117°53′06.9″ W.; thence to latitude 33°36′08.1″ N., longitude 117°53′04.9″ W.; thence to latitude 33°36′06.5″ N., longitude 117°53′08.9 ″ W.; thence to latitude 33°36′06.5″ N., longitude 117°53′16.3″ W.; returning to latitude 33°36′07.4″ N., longitude 117°53′19.2″ W.

(k) Area A-11. The entire water area within beginning at latitude 33°36′04.7″ N., longitude 117°53′01.9″ W.; thence to latitude 33°36′06.1″ N., longitude 117°53′00.5″ W.; thence to latitude 33°36′06.2″ N., longitude 117°52′59.0″ W.; thence to latitude 33°35′59.4″ N., longitude 117°52′51.1″ W.; thence to latitude 33°35′57.5″ N., longitude 117°52′50.9″ W.; thence to latitude 33°36′01.9″ N., longitude 117°52′57.3″ W.; thence to latitude 33°36′03.0″ N., longitude 117°53′00.4″ W.; returning to latitude 33°36′04.7″ N., longitude 117°53′01.9″ W.

(l) Area A-12. The entire water area within beginning at latitude 33°36′27.9″ N., longitude 117°54′40.4″ W.; thence to latitude 33°36′23.9″ N., longitude 117°54′41.8″ W.; thence to latitude 33°36′20.8″ N., longitude 117°54′29.9″ W.; thence to latitude 33°36′28.5″ N., longitude 117°54′20.2″ W.; returning to latitude 33°36′27.9″ N., longitude 117°54′40.4″ W.

(m) Area B-1. The entire water area within beginning at latitude 33°36′35.1″ N., longitude 117°54′28.8″ W.; thence to latitude 33°36′32.1″ N., longitude 117°54′22.1″ W.; thence to latitude 33°36′30.6″ N., longitude 117°54′22.8″ W; thence to latitude 33°36′30.5″ N., longitude 117°54′30.9″ W.; returning to latitude 33°36′35.1″ N., longitude 117°54′28.8″ W.

Note: These anchorage areas are reserved for recreational and other small craft. Local law, including the City of Newport Beach Municipal Code 17.25.020, may provide for fore and aft moorings for recreational and small craft of such size and alignment as permitted by the harbor master.

§ 110.212 [Removed and Reserved]

3. Remove and reserve § 110.212.

Dated: December 2, 2011.
J.R. Castillo,
Rear Admiral, U.S. Coast Guard, District Eleven Commander.

[FR Doc. 2011-32253 Filed 12-15-11; 8:45 am]

BILLING CODE 9110-04-P